DEPARTMENT OF COMMERCE

Foreign-Trade Zones Board

Order No. 1487

Expansion of Foreign-Trade Zone 163, Ponce, Puerto Rico, Area

Pursuant to its authority under the Foreign-Trade Zones Act of June 18, 1934, as amended (19 U.S.C. 81a-81u), the Foreign-Trade Zones Board (the Board) adopts the following Order:

Whereas, Codezol, C.D., grantee of FTZ 163, submitted an application to the Board for authority to expand FTZ 163 to include a site (Site 8 - 6 acres, Lugo warehouse) in Hormigueros, Puerto Rico, adjacent to the Ponce Customs port of entry (FTZ Docket 10-2006; filed 4/3/06);

Whereas, notice inviting public comment was given in the Federal Register (71 FR 18276, 4/11/06), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 163 is approved, subject to the FTZ Act and the Board's regulations, including Section 400.28, and subject to a sunset provision that would terminate further authority for the proposed site on November 1, 2011, unless the site is activated during that time period pursuant to 19 CFR Part 146 of the U.S. Customs and Border Protection regulations.

Signed at Washington, DC, this 9th day of November 2006.

David M. Spooner,
Assistant Secretary of Commerce for Import Administration, Alternate Chairman, Foreign-Trade Zones Board.
Attest:
Pierre V. Duy,
Acting Executive Secretary

[FR Doc. E6-19599 Filed 11-17-06; 8:45 am]

Billing Code: 3510-DS-S